DEPARTMENT OF THE INTERIOR

Geological Survey

Notice of an Open Meeting of the Advisory Committee on Water Information (ACWI)

AGENCY: United States Geological Survey, Department of the Interior.

ACTION: Notice of an open meeting.

SUMMARY: Notice is hereby given of a meeting of the ACWI, to be held March 1, 2011, via teleconference and web-based presentations. This ACWI meeting will serve a dual purpose:

(1) During the morning, the Federal water agencies will have an opportunity to brief ACWI about the proposed 2012 budget. Each organization will have no more than five minutes to report, so we can ensure adequate time for discussion and for feedback from the non-Federal ACWI member organizations.

(2) During the afternoon, some or all of the seven USGS science strategic planning teams (SSPTs) will present information about their activities and solicit ACWI feedback. The USGS SSPTs are part of a new science planning effort that Dr. Marcia McNutt, Director of the USGS, started within the bureau. The USGS 10-year strategic science plan (http://pubs.usgs.gov/circ/2007/1309/), which was released in 2007, identified six thematic areas upon which the USGS would concentrate. USGS has received much positive feedback on this plan and the efforts to move it forward. Director McNutt has commissioned seven SSPTs, one for each of the areas identified in the 2007 plan plus one additional team for Core Science Systems. These teams will work from the present through October 2011 to develop a more targeted 10-year science plan for each of their respective areas:

• Core Science Systems

• Ecosystems

• Energy and Minerals

• Environmental Health

• Global Change

• Natural Hazards

• Water

These teams will work over the next 10 months to develop a strategic plan for each area and to carefully examine how efforts need to be integrated across all seven areas. It is also of the utmost importance to everyone at the USGS to have your input into this process, and that process will begin at the ACWI WebEx meeting on March 1.

The ACWI was established under the authority of the Office of Management and Budget Memorandum M-92-01 and the Federal Advisory Committee Act. The purpose of the ACWI is to provide a forum for water information users and professionals to advise the Federal Government on activities and plans that may improve the effectiveness of meeting the Nation's water information needs. Member organizations help to foster communications between the Federal and non-Federal sectors on sharing water information.

Membership, limited to 35 organizations, represents a wide range of water resources interests and functions. Representation on the ACWI includes all levels of government, academia, private industry, and professional and technical societies. For more information on the ACWI, its membership, subgroups, meetings and activities, please see the Web site at: http://ACWI.gov.

DATES: The formal meeting will convene at 10 a.m. and adjourn at 5 p.m. on March 1, 2011.

ADDRESSES: The meeting will be a WebEx, accessible by telephone and by logging on to the meeting Web site to view the presentations online. Telephone and log-in information will be available the week prior to the meeting on the ACWI Web site (http://ACWI.gov) and can also be obtained by calling Wendy Norton at 703-648-6910. Those who wish to attend the meeting in person can do so at U.S. Geological Survey Headquarters, located at 12201 Sunrise Valley Drive, Reston, VA, Room 5A217.

FOR FURTHER INFORMATION CONTACT: Ms. Wendy E. Norton, ACWI Executive Secretary and Chief, Water Information Coordination Program, U.S. Geological Survey, 12201 Sunrise Valley Drive, MS 417, Reston, VA 20192. Telephone: 703-648-6810; Fax: 703-648-5644; e-mail: wenorton@usgs.gov.

SUPPLEMENTARY INFORMATION: This meeting is open to the public. There will not be a public comment period, due to time constraints for this particular meeting, but any member of the public may submit written information and (or) comments to Ms. Norton for distribution at the ACWI meeting or immediately following the meeting.

Dated: February 11, 2011.
Katherine Lins,
Chief, Office of Water Information.

[FR Doc. 2011-3605 Filed 2-16-11; 8:45 am]

BILLING CODE 4311-AM-P